DEPARTMENT OF TRANSPORTATION

Federal Aviation Administration

Notice of Intent To Rule on Application 03-06-C-00-GPT To Impose and Use the Revenue From a Passenger Facility Charge (PFC) at Gulfport International Airport, Gulfport, MS

AGENCY: Federal Aviation Administration (FAA), DOT.

ACTION: Notice of intent to rule on application.

SUMMARY: The FAA proposes to rule and invites public comment on the application to impose and use the revenue from a PFC at Gulfport International Airport under the provisions of the 49 U.S.C. 40117 and part 158 of the Federal Aviation Regulations (14 CFR part 158).

DATES: Comments must be received on or before December 20, 2002.

ADDRESSES: Comments on this application may be mailed or delivered in triplicate to the FAA at the following address: FAA/Airports District Office, 100 West Cross Street, Suite B, Jackson, Mississippi 39208-2307. In addition, one copy of any comments submitted to the FAA must be mailed or delivered to Mr. Bruch Frallic, Executive Director of the Gulfport-Biloxi Regional Airport Authority at the following address: 14035-L Airport Road, Gulfport, MS 39503.

Air carriers and foreign air carriers may submit copies of written comments previously provided to the Gulfport-Biloxi Regional Authority under §158.23 of part 158.

FOR FURTHER INFORMATION CONTACT: Jackson Airports District Office, Patrick D. Vaught, Program Manager, 100 West Cross Street, Suite B, Jackson, MS 39208-2307, (601) 664-9885. The application may be reviewed in person at this same location.

SUPPLEMENTARY INFORMATION: The FAA proposes to rule and invites public comment on the application to impose and use the revenue from PFC at Gulfport International Airport under the provisions of the 49 U.S.C. 40117 and part 158 of the Federal Aviation Regulations (14 CFR part 158).

On November 7, 2002 the FAA determined that the application to impose and use the revenue from a PFC submitted by Gulfport-Biloxi Regional Airport Authority was substantially complete within the requirements of §158.25 of part 158. The FAA will approve or disapprove the application, in whole or in part, no later than February 22, 2003.

The following is a brief overview of the application.

Proposed charge effective date: July 1, 2003.

Proposed charge expiration date: August 31, 2012.

Level of the proposed PC: $4.5.

Total estimated PC revenue: $14,722,349.

Brief description of proposed project(s): Terminal Expansion: Baggage Claim Area, Baggage Screening Area, Security Screening Checkpoint, Flight Information Display System and Baggage Information Display System, Baggage Claim PHD II & 2nd Floor Expansion, and Airline Security Reimbursement.

Class or classes of air carriers which the public agency has requested not be required to collect PFCs: None.

In addition, any person may, upon request, inspect the application, notice and other documents germane to the application in person at the Gulf Port-Biloxi Regional Airport Authority.

Issued in Jackson, Mississippi on November 7, 2002.
Wayne Atkinson,
Manager, Jackson Airports District Office.

[FR Doc. 02-29460 Filed 11-19-02; 8:45 am]

BILLING CODE 4910-13-M